DEPARTMENT OF COMMERCE

International Trade Administration

[A-475-820, A-588-843, A-580-829, A-469-807, A-583-828]

Stainless Steel Wire Rod from Italy, Japan, the Republic of Korea, Spain, and Taiwan: Continuation and Revocation of Antidumping Duty Orders

AGENCY: Enforcement and Compliance, International Trade Administration, Department of Commerce

SUMMARY: As a result of the determinations by the Department of Commerce (the Department) and the International Trade Commission (ITC) that revocation of the antidumping (AD) duty orders on stainless steel wire rod (SSWR) from Japan, the Republic of Korea (Korea), and Taiwan would likely lead to continuation or recurrence of dumping and material injury to an industry in the United States, the Department is publishing a notice of continuation of the antidumping duty orders. In addition, as a result of the ITC's determination that revocation of the AD duty orders on SSWR from Italy and Spain is not likely to lead to continuation or recurrence of material injury to an industry in the United States, the Department is revoking the AD orders on SSWR from Italy and Spain.

DATES: AD Revocation (Italy and Spain): Effective June 17, 2015; AD Continuation (Japan, Korea, and Taiwan): Effective August 15, 2016.

FOR FURTHER INFORMATION CONTACT: David Crespo, AD/CVD Operations, Office II, Enforcement and Compliance, International Trade Administration, U.S. Department of Commerce, 14th Street and Constitution Avenue NW, Washington, DC 20230; telephone: (202) 482-3693.

SUPPLEMENTARY INFORMATION:

Background

On September 15, 1998, the Department published the AD orders on SSWR from Japan, Italy, Korea, Spain, and Taiwan.¹ On May 1, 2015, the Department initiated ² and the ITC instituted ³ five-year (“sunset”) reviews of the AD orders on SSWR from Japan, Italy, Korea, Spain, and Taiwan, pursuant to section 751(c) of the Tariff Act of 1930, as amended (the Act). As a result of its reviews, the Department determined that revocation of the AD orders on SSWR from Japan, Italy, Korea, Spain, and Taiwan would likely lead to continuation or recurrence of dumping and notified the ITC of the magnitude of the margins of dumping likely to prevail were the orders revoked.⁴

¹ See Notice of Antidumping Duty Order: Stainless Steel Wire Rod from Italy, 63 FR 49327 (September 15, 1998); Notice of Antidumping Duty Order: Stainless Steel Wire Rod from Japan, 63 FR 49328 (September 15, 1998); Notice of Amended Final Determination of Sales at Less Than Fair Value and Antidumping Duty Order: Stainless Steel Wire Rod from Korea, 63 FR 49331 (September 15, 1998), as amended by Stainless Steel Wire Rod From Korea: Amendment of Final Determination of Sales at Less Than Fair Value Pursuant to Court Decision, 66 FR 41550 (August 8, 2001); Notice of Amended Final Determination of Sales at Less Than Fair Value and Antidumping Duty Order: Stainless Steel Wire Rod from Spain, 63 FR 49330 (September 15, 1998); and Notice of Amended Final Determination of Sales at Less Than Fair Value and Antidumping Duty Order: Stainless Steel Wire Rod from Taiwan, 63 FR 49332 (September 15, 1998).

² See Initiation of Five-Year (“Sunset”) Review, 80 FR 24900 (May 1, 2015).

³ See Stainless Steel Wire Rod From Italy, Japan, Korea, Spain, and Taiwan; Institution of Five-Year Reviews, 80 FR 24970 (May 1, 2015).

⁴ See Stainless Steel Wire Rod from Italy, Japan, the Republic of Korea, Spain, and Taiwan: Final Results of the Expedited Sunset Reviews of the Antidumping Duty Orders, 80 FR 59733 (October 2, 2015).

On July 29, 2016, the ITC published its determinations, pursuant to sections 751(c) and 752(a) of the Act, that revocation of the AD orders on SSWR from Japan, Korea, and Taiwan would likely lead to continuation or recurrence of material injury to an industry in the United States within a reasonably foreseeable time, but that revocation of the AD orders on SSWR from Italy and Spain would not be likely to lead to continuation or recurrence of material injury within a reasonably foreseeable time.⁵

⁵ See Stainless Steel Wire Rod from Italy, Japan, Korea, Spain, and Taiwan; Determination, 81 FR 50011 (July 29, 2016).

Scope of the Orders

The merchandise covered by these orders is SSWR, which comprises products that are hot-rolled or hot-rolled annealed and/or pickled and/or descaled rounds, squares, octagons, hexagons or other shapes, in coils, that may also be coated with a lubricant containing copper, lime, or oxalate. SSWR is made of alloy steels containing, by weight, 1.2 percent or less of carbon and 10.5 percent or more of chromium, with or without other elements. These products are manufactured only by hot-rolling or hot-rolling, annealing, and/or pickling and/or descaling, are normally sold in coiled form, and are of solid cross-section. The majority of SSWR sold in the United States is round in cross-sectional shape, annealed and pickled, and later cold-finished into stainless steel wire or small-diameter bar.

The most common size for such products is 5.5 millimeters or 0.217 inches in diameter, which represents the smallest size that normally is produced on a rolling mill and is the size that most wire-drawing machines are set up to draw. The range of SSWR sizes normally sold in the United States is between 0.20 inches and 1.312 inches diameter. Two stainless steel grades, SF20T and K-M35FL, are excluded from the scope of the orders. The chemical makeup for the excluded grades is as follows:

SF20T
Carbon | 0.05 max
Chromium | 19.00/21.00
Manganese | 2.00 max
Molybdenum | 1.50/2.50
Phosphorous | 0.05 max
Lead | added (0.10/0.30)
Sulfur | 0.15 max
Tellurium | added (0.03 min)
Silicon | 1.00 max
K-M35FL
Carbon | 0.015 max
Nickel | 0.30 max
Silicon | 0.70/1.00
Chromium | 12.50/14.00
Manganese | 0.40 max
Lead | 0.10/0.30
Phosphorous | 0.04 max
Aluminum | 0.20/0.35
Sulfur | 0.03 max

The products subject to these orders are currently classifiable under subheadings 7221.00.0005, 7221.00.0015, 7221.00.0030, 7221.00.0045, and 7221.00.0075 of the Harmonized Tariff Schedule of the United States (HTSUS). Although the HTSUS subheadings are provided for convenience and customs purposes, the written description of the scope of these orders is dispositive.

Continuation of the AD Orders on SSWR From Japan, Korea, and Taiwan

As a result of the determinations by the Department and the ITC that revocation of the AD orders on SSWR from Japan, Korea, and Taiwan would likely lead to a continuation or a recurrence of dumping and of material injury to an industry in the United States, pursuant to section 751(d)(2) of the Act, the Department hereby orders the continuation of the AD orders on SSWR from Japan, Korea, and Taiwan. U.S. Customs and Border Protection (CBP) will continue to collect AD cash deposits at the rates in effect at the time of entry for all imports of subject merchandise. The effective date of the continuation of the orders will be the date of publication in the Federal Register of this notice of continuation. Pursuant to section 751(c)(2) of the Act, the Department intends to initiate the next five-year review of these orders not later than 30 days prior to the fifth anniversary of the effective date of continuation.

Revocation of the AD Orders on SSWR From Italy and Spain

As a result of the determination by the ITC that revocation of the AD orders on SSWR from Italy and Spain would not be likely to lead to continuation or recurrence of material injury to an industry in the United States, pursuant to section 751(d)(2) of the Act, the Department is revoking the AD orders on SSWR from Italy and Spain. Pursuant to section 751(d)(2) of the Act and 19 CFR 351.222(i)(2)(i), the effective date of revocation is June 17, 2015 (i.e., the fifth anniversary of the date of publication in the Federal Register of the notice of continuation of the antidumping duty orders).⁶

⁶ See Stainless Steel Wire Rod from Italy, Japan, the Republic of Korea, Spain, and Taiwan: Continuation of Antidumping Duty Orders, 75 FR at 34424 (June 17, 2010).

Cash Deposits and Assessment of Duties on SSWR From Italy and Spain

The Department will notify CBP, 15 days after publication of this notice, to terminate the suspension of liquidation and to discontinue the collection of cash deposits on entries of SSWR from Italy and Spain, entered or withdrawn from warehouse, on or after June 17, 2015. The Department will further instruct CBP to refund with interest all cash deposits on unliquidated entries made on or after June 17, 2015. Entries of subject merchandise prior to the effective date of revocation will continue to be subject to suspension of liquidation and AD deposit requirements and assessments. The Department will complete any pending or requested administrative reviews of this order covering entries prior to June 17, 2015.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

These five-year (sunset) reviews and notice are in accordance with sections 751(c) and (d)(2), and 777(i) the Act, and 19 CFR 351.218(f)(4).

Dated: August 5, 2016.
Ronald K. Lorentzen,
Acting Assistant Secretary for Enforcement and Compliance.

[FR Doc. 2016-19256 Filed 8-12-16; 8:45 am]

BILLING CODE 3510-DS-P